DEPARTMENT OF COMMERCE

Foreign-Trade Zones Board

[B-29-2024]

Foreign-Trade Zone (FTZ) 32, Notification of Proposed Production Activity; J.J.C. International Distributors LLC dba Clar Company; (Galvanized Steel Products); Miami, Florida

J.J.C. International Distributors LLC dba Clar Company submitted a notification of proposed production activity to the FTZ Board (the Board) for its facility in Miami, Florida within FTZ 32. The notification conforming to the requirements of the Board's regulations (15 CFR 400.22) was received on May 23, 2024.

Pursuant to 15 CFR 400.14(b), FTZ production activity would be limited to the specific foreign-status material(s)/component(s) and specific finished product(s) described in the submitted notification (summarized below) and subsequently authorized by the Board. The benefits that may stem from conducting production activity under FTZ procedures are explained in the background section of the Board's website—accessible via www.trade.gov/ftz.

The proposed finished products include: galvanized steel studs, galvanized steel tracks, galvanized steel furring channels, galvanized steel angles, and galvanized steel corner beads (duty-free).

The proposed foreign-status materials/components include: hot dip galvanized steel sheet in coils (duty-free). The request indicates that certain materials/components may be subject to duties under section 301 of the Trade Act of 1974 (section 301), depending on the country of origin. The applicable section 301 decisions require subject merchandise to be admitted to FTZs in privileged foreign status (19 CFR 146.41).]

Public comment is invited from interested parties. Submissions shall be addressed to the Board's Executive Secretary and sent to: ftz@trade.gov. The closing period for their receipt is July 10, 2024.

A copy of the notification will be available for public inspection in the “Online FTZ Information System” section of the Board's website.

For further information, contact Kolade Osho at Kolade.Osho@trade.gov.

Dated: May 28, 2024.
Elizabeth Whiteman,
Executive Secretary.

[FR Doc. 2024-11990 Filed 5-30-24; 8:45 am]

BILLING CODE 3510-DS-P